OFFICE OF PERSONNEL MANAGEMENT

5 CFR Part 894

RIN 3206-AN58

Federal Employees Dental and Vision Insurance Program: Extension of Eligibility to Certain TRICARE-Eligible Individuals; Effective Date of Enrollment

AGENCY: Office of Personnel Management.

ACTION: Interim final rule; request for comments.

SUMMARY: The Office of Personnel Management (OPM) is issuing an interim final rule to expand eligibility for enrollment in the Federal Employees Dental and Vision Insurance Program (FEDVIP) to additional groups. The National Defense Authorization Act for Fiscal Year 2017 (FY17 NDAA), expanded FEDVIP eligibility to certain TRICARE-eligible individuals (TEIs).

DATES: This rule is effective on November 14, 2018. OPM must receive comments on or before January 18, 2019.

ADDRESSES: You may submit comments, identified by docket number and/or Regulatory Information Number (RIN) and title, by the following method:

• Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: Julia Elam, Program Analyst, at julia.elam@opm.gov or (202) 606-2128.

SUPPLEMENTARY INFORMATION:

Authority for This Rulemaking

FEDVIP was created as a result of the passage of the Federal Employee Dental and Vision Benefits Enhancement Act of 2004, Public Law 108-496. This Act required OPM to make stand-alone dental and vision insurance available to Federal employees, retirees, and their dependents. FEDVIP has 3.4 million enrollees with approximately 7.1 covered individuals. FEDVIP is available to eligible Federal Civilian and U.S. Postal Service (USPS) employees, retirees (annuitants), survivor annuitants, compensationers, and their eligible family members (dependents) on an enrollee-pay-all basis; there is no government contribution towards premium.

The program is administered by OPM in accordance with 5 U.S.C. chapters 89A and 89B and implementing regulations (5 CFR part 894). Section 715 of Public Law 114-328, authorizes the Secretary of Defense to enter into an agreement with the OPM Director to allow certain TRICARE-eligible individuals to enroll, or to be covered under an enrollment in FEDVIP, and amends 5 U.S.C. 8951 and 8958(c) (dental benefits) and 5 U.S.C. 8981 and 8988(c) (vision benefits), to establish eligibility of certain TRICARE-eligible individuals to enroll so that they and their eligible family members may obtain dental and vision benefits under FEDVIP.

Discussion of the Proposed Changes

This rule will assist newly eligible individuals and their family members in enrolling in this program. Under 5 U.S.C. 8951, a TRICARE-eligible individual (TEI) who is eligible for FEDVIP dental benefits means an individual who is eligible for coverage pursuant to 10 U.S.C. 1076c(b) (the TRICARE Retiree Dental Program (TRDP)). Under this regulation, all individuals that are currently eligible for TRDP will be eligible for FEDVIP dental benefits beginning plan year 2019. Under 5 U.S.C. 8981, as amended, a TRICARE-eligible individual who is eligible for FEDVIP vision benefits means an individual who is covered pursuant to 10 U.S.C. 1076d (i.e., TRICARE Reserve Select), 1076e (i.e., TRICARE Retired Reserve), 1079(a) (i.e., uniformed services active duty family members enrolled in TRICARE Select or TRICARE Prime), 1086(c) (i.e., uniformed services retirees and retiree family members enrolled in TRICARE Select or TRICARE Prime), or 1086(d) (i.e., TRICARE for Life). These individuals will be eligible for FEDVIP vision benefits beginning plan year 2019. It is estimated that there are approximately 7.6 million individuals who will be newly eligible for FEDVIP vision benefits and 3 million individuals who will be newly eligible for FEDVIP dental benefits. Coverage, eligibility, and enrollment for these individuals are discussed in subparts C and E and the new subpart H of this regulation.

Under subpart H, TRICARE-eligible individuals will need to actively enroll in FEDVIP in order to be covered for plan year 2019, even if those individuals are currently enrolled in TRDP. Generally, the uniformed services retiree will be the sponsor and enrollee in whose name the enrollment is carried for eligible dependent family members. Uniformed services members on active duty are not eligible for FEDVIP benefits, and a family member that is eligible for vision benefits will serve as the enrollee and will enroll eligible family members in one FEDVIP vision benefit plan.

There are technical corrections and clarifications such as the addition of definitions at 5 CFR 894.101, inclusion of terminology to include TRICARE-eligible individuals throughout subpart A, and a special provision for TRICARE-eligible individuals (TEIs) at 5 CFR 894.106. There is inclusion of language regarding coverage, types of enrollment, and cost of coverage for TRICARE-eligible individuals at 5 CFR 894.204, 5 CFR 894.401, 5 CFR 894.403, and 5 CFR 894.406. Technical corrections to include newly eligible TEIs are proposed in 5 CFR 894.305 through 894.307. The TEIs that can enroll and cover TEI family members are discussed at 5 CFR 894.309. Technical corrections for enrollment and termination or cancellation of coverage for TEIs have been included throughout subparts E and F.

The first enrollment opportunity for the newly eligible TRICARE-eligible individuals will occur during the 2018 Federal Benefits Open Season period, which will run from November 12 through December 10, 2018 with the first effective date of coverage beginning on January 1, 2019.

Expected Impact of Proposed Changes

This rule is expected to be an E.O. 13771 deregulatory action because it offers more dental coverage options and new vision coverage in FEDVIP for TRICARE-eligible individuals. TRDP beneficiaries currently have one option for dental coverage or can seek coverage in the private dental insurance market. Vision coverage is a new government-offered benefit for this population. Eligibility to enroll in FEDVIP provides more coverage options for these individuals than are currently available to them.

OPM contracts with 10 dental carriers and 4 vision carriers to offer plans under FEDVIP. There are 15 dental plan options available across FEDVIP from these 10 dental carriers. Within the 4 vision carriers, there are 8 vision plan options that are nationwide and internationally available to all potential enrollees. While this rule expands the number of individuals who are potentially eligible for this FEDVIP, OPM does not believe this regulation will have a large impact on the broader dental or vision insurance markets as FEDVIP generally constitutes a smaller percentage of an overall carrier's book of business.

In plan year 2018, FEDVIP overall program enrollment includes 3.3 million individuals. The number enrolled has not changed significantly in recent years. For example, there were 3.2 million in plan year 2017 and 2.98 million in plan year 2016. Based on OPM data, between 2013 and 2017, an average of 87,849 people made plan changes during open season.

Based on the changes required by FY17 NDAA, OPM estimates there are approximately 7.82 million individuals who will be newly eligible for FEDVIP vision benefits and 5.93 million individuals who will be newly eligible for FEDVIP dental benefits. However, OPM does not expect every newly eligible individual to enroll in FEDVIP as they may choose not to enroll or may opt instead to enroll in private dental and/or vision insurance. Since OPM does not have extensive data on and cannot estimate the potential uptake of TRICARE-eligible individuals to determine the impact of this regulation, we are seeking comments on the following:

1. How will the changes made by this regulation impact the non-group dental or vision insurance market?

2. How will the changes made by this regulation impact the choices available to terminating FEDVIP enrollees?

3. How will the changes made by this regulation impact the enrollment of annuitants compared to employees?

4. How will the regulation impact changes to enrollment in FEDVIP?

Waiver of Proposed Rulemaking

OPM is issuing this rulemaking as an interim final rule and has determined that, under the Administrative Procedure Act (APA), 5 U.S.C. 553(b)(B), it would be impracticable, unnecessary, and contrary to the public interest to delay a final regulation until a public notice and comment process has been completed.

The conclusion of a public notice and comment period before the rule is finalized would be impracticable because it would impede due and timely execution of OPM's functions: Uniformed services retirees and their family members and active duty family members would not have time to enroll or be enrolled in FEDVIP during the November 2018 open season. Since the enactment of Public Law 114-328, OPM and the Department of Defense (DoD) have worked in coordination on a number of actions necessary to implement the law. Before OPM could start any rulemaking implementation, a Memorandum of Agreement (MOA) was needed between the DoD's Defense Health Agency (DHA) and OPM to provide certain TRICARE-eligible individuals the opportunity to purchase FEDVIP dental and/or vision coverage beginning January 1, 2019. The MOA was signed on March 26, 2018, leaving OPM insufficient time to prepare and complete a full public notice and comment rulemaking proceeding and to timely incorporate a final rule into open season materials prior to the open season's commencement date.

To the extent that an NPRM would furnish general public information about enrollment opportunities, it is unnecessary in light of the extensive outreach already undertaken by OPM and DoD, which provided more specific and more detailed notice to affected beneficiaries than an NPRM would provide. Outreach included identifying the eligible population of uniformed services retirees and family members for both FEDVIP dental and vision coverage and active duty family members for vision coverage; joint efforts to communicate with potential enrollees about eligibility, enrollment, and key dates for enrolling in FEDVIP; and working with the FEDVIP Administrator to update enrollment systems to allow enrollment of newly eligible individuals. Furthermore, both OPM and DHA have worked in coordination to inform current TRICARE Retiree Dental Program (TRDP) enrollees about the end of dental benefit delivery under the TRDP by December 31, 2018 to ensure TRDP enrollees are aware of the transition of the program to FEDVIP.

In addition, it is unnecessary to the extent that OPM's rule simply extends the coverage of DoD regulations at 32 CFR 199.22 that were promulgated through notice and comment. The lost opportunity to enroll in the November 2018 open season would result in serious damage to important interests, since uniformed services retirees and their family members will no longer have access to the TRDP, the prior plan that FEDVIP is replacing, and the gap in coverage could have significant health and financial impact on them. This outcome would be contrary to the public interest.

For these reasons, OPM has determined that the public notice and participation that the APA ordinarily requires would, in this case, be impracticable, unnecessary, and contrary to the public interest and that good cause exists for waiving proposed rulemaking and delaying its solicitation of comments from the public until after it issues an interim final rule. OPM will consider those comments received upon its interim final rulemaking in a subsequent final rule.

Regulatory Impact Analysis

OPM has examined the impact of this rule as required by Executive Order 12866 and Executive Order 13563, which directs agencies to assess all costs and benefits of available regulatory alternatives and, if regulation is necessary, to select regulatory approaches that maximize net benefits (including potential economic, environmental, public, health, and safety effects, distributive impacts, and equity). A regulatory impact analysis must be prepared for major rules with economically significant effects of $100 million or more in any one year. This rule has been designated as a “significant regulatory action,” under Executive Order 12866.

Reducing Regulation and Controlling Regulatory Costs

This rule is expected to be an E.O. 13771 deregulatory action. Details can be found in the “Expected Impact of the Proposed Changes” section of the rule.

Regulatory Flexibility Act

I certify that this regulation will not have a significant economic impact on a substantial number of small entities.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Reform Act of 1995

This rule will not result in the expenditure by State, local or tribal governments of more than $100 million annually. Thus, no written assessment of unfunded mandates is required.

Congressional Review Act

This action pertains to agency management, personnel and organization and does not substantially affect the rights or obligations of nonagency parties and, accordingly, is not a “rule” as that term is used by the Congressional Review Act (Subtitle E of the Small Business Regulatory Enforcement Fairness Act of 1996 (SBREFA)). Therefore, the reporting requirement of 5 U.S.C. 801 does not apply.

Paperwork Reduction Act of 1995 (44 U.S.C. Chapter 35)

Notwithstanding any other provision of law, no person is required to respond to, nor shall any person be subject to a penalty for failure to comply with a collection of information subject to the requirements of the Paperwork Reduction Act of 1995 (44 U.S.C. 3501 et seq.) (PRA), unless that collection of information displays a currently valid Office of Management and Budget (OMB) Control Number.

This rule involves a collection of information subject to the PRA for the Federal Employees Dental and Vision Insurance Program (FEDVIP) Enrollment System, known as BENEFEDS OPM is in the process of seeking OMB approval. The public reporting burden for this collection is estimated to average 8 minutes for a respondent to submit an enrollment including time for reviewing education and support but may not include time for reviewing a plan and specific benefits. The total burden hour estimate for this form is 44,307 hours. The systems of record notice for this collection is: Central-1 found on https://www.opm.gov/information-management/privacy-policy/sorn/opm-sorn-central-1-civil-service-retirement-and-insurance-records.pdf.

The FEDVIP currently has a total of 15 dental plan options available across the program from 10 dental plan choices within 6 nationwide and 4 regional plans. Each potential enrollee has access to all nationwide options. Regional options are available in at least 29 states and Puerto Rico. There are 8 vision plan choices that are nationwide and international available to all potential enrollees. Historically, an average of 87,849 FEDVIP enrollees made plan changes during each open season between 2013-2017. This regulation is not anticipated to change the burden associated with this collection although the number of participants will increase due to the expansion of eligibility.

Send comments regarding the burden estimate or any other aspect of this collection of information, including suggestions for reducing this burden to formsmanager@opm.gov. The final rule will respond to any OMB or public comments on the information collection requirements contained in this proposal.

List of Subjects in 5 CFR Part 894

Administrative practice and procedure, Government employees, Health facilities, Health insurance, Health professions, Hostages, Iraq, Kuwait, Lebanon, Military personnel, Reporting and recordkeeping requirements, Retirement.

Office of Personnel Management.
Alexys Stanley,
Regulatory Affairs Analyst.

Accordingly, OPM amends 5 CFR part 894 as follows:

PART 894—FEDERAL EMPLOYEES DENTAL AND VISION INSURANCE PROGRAM

1. The authority citation for part 894 is revised to read as follows:

Authority: 5 U.S.C. 8962; 5 U.S.C. 8992; Subpart C also issued under section 1 ofPub. L. 110-279, 122 Stat. 2604; Pub. L. 114-328.

Subpart A—Administration and General Provisions

2. Amend § 894.101 by:

a. In the definition of “Child,” revising the introductory text, adding introductry text to paragraph (1), and adding paragraph (4).

b. Adding the definition of “Enrollee” in alphabetical order.

c. Revising the definition of “Family member.”

d. Adding the definition of “Sponsor” in alphabetical order.

e. Revising the definition of “Stephchild.”

f. Adding the definitions of “TEI,” “TEI certifying family member,” “TEI child,” “TEI former spouse,” “TRICARE-eligible individual (TEI),” “TRICARE-eligible individual for FEDVIP dental benefits (TEI-D),” and “TRICARE-eligible individual for FEDVIP vision benefits (TEI-V)” in alphabetical order.

The revisions and additions read as follows:

§ 894.101 Definitions.

* * * * *

Child means:

(1) Except as discussed in paragraph (4) of this definition, a child is one of the following:

* * * * *

(4) With respect to a TEl, child means a TEI child.

* * * * *

Enrollee means the individual in whose name the FEDVIP enrollment is carried. There is one FEDVIP enrollment for each enrollee in a dental plan, and/or in a vision plan and that enrollment may include family members who may be covered by the enrollment. The term enrollee includes individuals eligible to enroll based upon a status described at subpart C of this part, who enroll and are covered. With respect to the Federal workforce, enrollee generally means an employee or annuitant. With respect to a TEI, enrollee generally means the sponsor who is a TEI with respect to a FEDVIP plan; but if the sponsor is not a TEI, or for FEDVIP dental benefits if the sponsor defined at 894.804 is not enrolled and meets a condition at § 894.309(a)(3)(iii), then enrollee means the TEI certifying family member. A TEI former spouse may be an enrollee only for a self-only FEDVIP vision plan. An enrollee may enroll and elect a FEDVIP dental and/or vision plan, option, and type of enrollment, except as provided at § 894.309.

* * * * *

Family member means a spouse (including a spouse under a valid common law marriage) and/or unmarried dependent child(ren) under age 22 or beyond age 22, if incapable of self-support because of mental or physical disability which existed before reaching age 22, as defined at 5 U.S.C. 8901(5). With respect to a TEI, the term family member means a TEI family member.

* * * * *

Sponsor generally means the individual who is eligible for medical or dental benefits under 10 U.S.C. chapter 55 based on his or her direct affiliation with the uniformed services (including military members of the National Guard and Reserves), in accordance with § 894.804.

Stepchild means:

(1) Except as provided in paragraph (2) of this definition, the child of an enrollee's spouse or domestic partner and shall continue to refer to such child after the enrollee's divorce from the spouse, termination of the domestic partnership, or death of the spouse or domestic partner, so long as the child continues to live with the enrollee in a regular parent-child relationship.

(2) Your spouse's child born within or outside marriage or his or her adopted child. The child of your spouse shall continue to be considered your stepchild after your divorce from your spouse or the death of your spouse so long as the child continues to live with you in a regular parent-child relationship.

TEI means TRICARE-eligible individual for FEDVIP dental benefits (TEI-D) or a TRICARE-eligible individual for FEDVIP vision benefits (TEI-V).

TEI certifying family member means, where the sponsor is not an enrollee under § 894.309, the TEI family member who may accept responsibility to self-certify as an enrollee in accordance with § 894.809.

TEI child means an individual who is a TEI and who meets the definition of dependent in 10 U.S.C. 1072(2)(D) or (I) with respect to a sponsor.

TEI family member means a TEI who is a dependent with respect to a sponsor, as defined in 10 U.S.C. 1072(2)(A) (spouse), 10 U.S.C. 1072(2)(B) (unremarried widow), 10 U.S.C. 1072(2)(C) (unremarried widower), 10 U.S.C. 1072(2)(D) (child), or 10 U.S.C 1072(2)(I) (unmarried person).

TEI former spouse means a TEI who is an unremarried former spouse as defined in 10 U.S.C. 1072(2)(F), (G), or (H) and is entitled to medical care under 10 U.S.C. 1086(c) or (d).

TRICARE-eligible individual (TEI) means a TRICARE-eligible individual for FEDVIP dental benefits (TEI-D) or a TRICARE-eligible individual for FEDVIP vision benefits (TEI-V), as the case may be.

TRICARE-eligible individual for FEDVIP dental benefits (TEI-D) means an individual who is eligible for FEDVIP dental coverage based on the individual's eligibility to enroll or be covered under the TRICARE Retiree Dental Program, 10 U.S.C. 1076c(b) in accordance with § 894.802.

TRICARE-eligible individual for FEDVIP vision benefits (TEI-V) means an individual who is eligible for FEDVIP vision coverage based on the individual's enrollment in a specified TRICARE health plan in accordance with § 894.803.

* * * * *

3. Add § 894.106 to read as follows:

§ 894.106 Special provisions for TRICARE-eligible individuals (TEI).

Generally, applicable provisions of this part are effective for TEIs. Provisions that are specific to Federal employees, annuitants and their family members do not apply to TEIs. See § 894.101 for application of defined terms to TEIs and subpart H of this part for special provisions for TEIs, which governs in the event of ambiguity.

Subpart B—Coverage and Types of Enrollment

4. Revise § 894.204 to read as follows:

§ 894.204 May I be enrolled in more than one dental or vision plan at a time?

You may be enrolled or be covered in a FEDVIP dental plan and a separate FEDVIP vision plan at the same time. But no one may enroll or be covered as a family member in a FEDVIP dental or vision plan if he or she is covered under another person's FEDVIP dental or vision self plus one or self and family enrollment, except as provided under § 890.302(a)(2) through (4) of this chapter, with respect to dual enrollments. If two parents of a TEI child are entitled to be a sponsor, they must choose one parent to be the child's sponsor. Dual enrollments of TEIs are permitted as provided under § 890.302(a)(2) through (4) of this chapter as applied with respect to TEI family members.

Subpart C—Eligibility

5. Revise § 894.305 to read as follows:

§ 894.305 Am I eligible to enroll if I am a former spouse receiving an apportionment of annuity?

No. Former spouses receiving an apportionment of annuity are not eligible to enroll in FEDVIP. However, a TEI former spouse is eligible to enroll in a FEDVIP vision plan as long as he or she remains unremarried.

6. Revise § 894.306 to read as follows:

§ 894.306 Are foster children eligible as family members?

Generally, foster children are eligible for coverage as family members under FEDVIP. However, a foster child is excluded from the definition of a TEI family member. A pre-adoptive child and an eligible ward of the state are eligible as TEI family members.

7. Revise § 894.307 to read as follows:

§ 894.307 Are disabled children age 22 or over eligible as family members?

(a) Except as provided at paragraph (b) of this section, a child age 22 or over is an eligible family member if the child is incapable of self-support because of a physical or mental disability that existed before the child reached age 22.

(b) A TEI child is a TEI family member as long as the TEI child is under the age of 21 or 23 as provided at 10 U.S.C. 1072(2)(D) or (I), and, if disabled during the age of eligibility, the TEI child remains a TEI family member regardless of age as long as the TEI child meets the standard for incapacity and support at 10 U.S.C. 1072(2)(D)(iii) or incapacity and dependency at 10 U.S.C. 1072(2)(I)(ii)(III), (iii), (iv) and (v).

8. Add § 894.309 to read as follows:

§ 894.309 I am a TEI-D or TEI-V. Am I eligible to enroll in FEDVIP, and cover my TEI family members?

(a) FEDVIP dental plan. (1) A sponsor who is a TEI-D is eligible to enroll and cover TEI-D family members under the enrollment.

(2) A sponsor who is a TEI-D but who does not enroll even though eligible, is not an enrollee and cannot enroll or cover TEI family members.

(3) A TEI certifying family member who is a TEI-D is eligible to enroll and to cover TEI-D family members under the enrollment when:

(i) The sponsor is not a TEI-D;

(ii) The sponsor is deceased; or

(iii) The sponsor is a TEI-D described at § 894.804(b)(1) or (2) who does not enroll (therefore is not an enrollee and cannot cover TEI family members) and the sponsor:

(A) Receives dental services from the Department of Veterans Affairs (VA);

(B) Has employer-sponsored dental coverage without a family coverage option; or

(C) Has a medical or dental condition that prevents him or her from obtaining dental benefits.

(b) FEDVIP vision plan. (1) A sponsor who is a TEI-V is eligible to enroll and cover TEI-V family members.

(2) A TEI certifying family member who is a TEI-V is eligible to enroll and cover TEI-V family members under the enrollment when:

(i) The sponsor is not a TEI-V; or

(ii) The sponsor is deceased.

(3) A TEI former spouse is eligible to enroll for self only, but may not elect a self plus one or self and family type of enrollment and may not cover family members, even if they are TEI family members.

Subpart D—Cost of Coverage

9. In § 894.401, add paragraph (e) to read as follows:

§ 894.401 How do I pay premiums?

* * * * *

(e) A sponsor, TEI certifying family member, TEI former spouse, or TEI who is an unremarried survivor pays premiums the following ways:

(1) A sponsor or TEI certifying family member who receives uniformed services pay or uniformed services retirement pay shall pay premiums through deduction from payroll (including uniformed services retirement pay deduction).

(2) A sponsor or TEI certifying family member who is not described in paragraph (e)(1) of this section, and a TEI former spouse or TEI who is an unremarried survivor shall pay premiums through:

(i) Automatic bank withdrawal; or

(ii) Direct premium payments.

10. In § 894.403, add paragraph (b)(5) to read as follows:

§ 894.403 Are FEDVIP premiums paid on a pre-tax basis?

* * * * *

(b) * * *

(5) You are a TEI.

11. Add § 894.406 to read as follows:

§ 894.406 What happens if my uniformed services pay or uniformed services retirement pay is insufficient to cover my FEDVIP premiums, or I go into a nonpay status?

(a) You must contact the Administrator to arrange to pay your premiums by direct premium payment or automatic bank withdrawal to the Administrator.

(b) If you do not make the premium payments, your FEDVIP coverage will stop. You will not be able to reenroll until the next open season after:

(1) You are in pay status; or

(2) Your uniformed services pay or uniformed services retirement pay (retired, retainer, or equivalent) is sufficient to make the premium payment.

Subpart E—Enrollment and Changing Enrollment

12. In § 894.501:

a. Remove the word “or” at the end of paragraph (b)(2).

b. Remove the period and add a semicolon in its place at the end of paragraph (b)(3).

c. Add paragraphs (b)(4) through (6).

d. Remove the word “or” at the end of paragraph (e).

e. Remove the period and add a semicolon in its place at the end of paragraph (f).

f. Add paragraph (g).

The additions read as follows:

§ 894.501 When may I enroll?

* * * * *

(b) * * *

(4) A sponsor who is a TEI;

(5) A TEI certifying family member, but only if, on your first date of eligibility to enroll, your sponsor is not a TEI or is deceased, or for FEDVIP dental coverage, if your sponsor is defined at § 890.309(a)(3)(iii); or

(6) A TEI former spouse.

* * * * *

(g) For a TEI, within 60 days of your uniformed services pay or uniformed services retirement pay being restored after having being reduced, forfeited, or terminated.

13. In § 894.502:

a. Revise the section heading.

b. Add introductory text.

c. Revise paragraph (a).

d. Remove the word “or” at the end of paragraph (d).

e. Remove the period and add a semicolon in its place at the end of paragraph (e).

e. Add paragraphs (f) and (g).

The revisions and additions read as follows:

§ 894.502 What are the Qualifying Life Events (QLEs) that allow me to enroll or become covered in FEDVIP outside of open season?

You may enroll or become covered outside of open season if you are otherwise eligible to enroll and:

(a) You or a family member or TEI family member lose other dental/vision coverage;

* * * * *

(f) You are a TEI and your uniformed services pay or uniformed services retirement pay is restored after having been reduced, forfeited, or terminated; or

(g) You are not a TEI and you marry a TEI and can be covered as a TEI family member; or, you are not a TEI and you marry a non-TEI sponsor that is on active duty and can be covered as a TEI certifying family member. However, upon remarriage, a TEI former spouse or TEI surviving spouse or widow loses status as a TEI with respect to a former or deceased sponsor.

14. In § 894.504, revise paragraph (c) and add paragraphs (d) and (e) to read as follows:

§ 894.504 When is my enrollment effective?

* * * * *

(c) If you are a TEI and enroll or are enrolled during the open season, your enrollment is effective no earlier than January 1, 2019.

(d) A QLE enrollment or change is effective the 1st day of the pay period following the date of your QLE.

(e)(l) A belated open season enrollment or change is effective retroactive to the date it would have been effective if you had made a timely enrollment or request for a change.

(2) Any belated enrollment or change outside of open season that goes beyond the allowable 60 day enrollment timeframe is effective retroactive to the 1st day of the pay period following the one in which you became newly eligible or the date of your QLE.

(3) You are responsible for any retroactive premiums due to a belated enrollment or request for a change.

15. Revise § 894.507 to read as follows:

§ 894.507 After I'm enrolled, may I change from one dental or vision plan or plan option to another?

(a) You may change from one dental plan to another, and/or from one vision plan to another, or you may change from one plan option to another option in that same plan:

(1) During the annual open season;

(2) When you get married (except for TEIs who are unremarried survivors, TEI former spouses, and TEI children); or

(3) For employees, when you return to Federal employment after being on leave without pay if you did not have Federal dental or vision coverage prior to going on leave without pay, or your coverage was terminated or canceled during your period of leave without pay.

(b)(1) If you are enrolled in a dental or vision plan with a geographically restricted service area, and you or a covered eligible family member or TEI family member move out of the service area, you may change to a different dental or vision plan that serves that area.

(2) You may make this change at any time before or after the move, once you or a covered eligible family member or TEI family member has a new address.

(3) The enrollment change is effective the first day of the pay period following the pay period in which you make the change.

(4) You may not change your type of enrollment unless you also have a QLE that allows you to change your type of enrollment.

16. Revise § 894.509 to read as follows:

§ 894.509 What are the QLEs that are consistent with increasing my type of enrollment?

(a) Marriage; except for a TEI who is an unremarried survivor, widow or widower; TEI former spouse; and TEI child(ren);

(b) Acquiring an eligible child or TEI child; or

(c) Loss of other dental or vision coverage by an eligible family member or TEI family member.

17. In § 894.510, revise paragraphs (c) and (d)(1) to read as follows:

§ 894.510 When may I decrease my type of enrollment?

* * * * *

(c)(1) Except as provided in paragraph (c)(2) of this section, you may decrease your type of enrollment only during the period beginning 31 days before your QLE and ending 60 days after your QLE.

(2) You may make any of the following enrollment changes at any time beginning 31 days before a QLE listed in § 894.511(a):

(i) A decrease in your self plus one enrollment;

(ii) A decrease in your self and family enrollment to a self plus one enrollment, when you have only one remaining eligible family member or TEI family member; or

(iii) A decrease in your self and family enrollment to a self only enrollment, when you have no remaining eligible family members or TEI family members.

(d)(1) Except as provided in paragraph (d)(2) of this section, your change in enrollment is effective the first day of the first pay period following the one in which you make the change.

* * * * *

18. Revise § 894.511 to read as follows:

§ 894.511 What are the QLEs that are consistent with decreasing my type of enrollment?

(a) Loss of an eligible family member or TEI family member due to:

(1) Divorce;

(2) Death; or

(3) Loss of eligibility of a previously enrolled child or TEI child.

(b) You are an employee, annuitant or compensationer and your spouse deploys to active military service.

19. Add § 894.513 to read as follows:

§ 894.513 Do I have to elect FEDVIP coverage each year in order to remain covered?

No. If you do not change or cancel your enrollment, and if your enrollment does not terminate pursuant to this part, then your current enrollment will continue into the next year. Before open season, you should review the plan brochure for any changes in benefits and premiums for the next year.

Subpart F—Termination or Cancellation of Coverage

20. Amend § 894.601 by revising paragraphs (a) through (c) and adding paragraphs (g) and (h) to read as follows:

§ 894.601 When does my FEDVIP coverage stop?

(a) If you no longer meet the definition of an eligible employee or annuitant, or TEI, your FEDVIP coverage stops at the end of the pay period in which you were last eligible.

(b) If you go into a period of nonpay or insufficient pay (or insufficient uniformed services pay or uniformed services retirement pay) and you do not make direct premium payments, your FEDVIP coverage stops at the end of the pay period for which your agency, retirement system, OWCP, uniformed services or uniformed services retirement system last deducted your premium payment.

(c) If you are making direct premium payments or payments by automatic bank withdrawal, and you stop making the payments, your FEDVIP coverage stops at the end of the pay period for which you last made a payment.

* * * * *

(g) If your status as a uniformed services retiree discontinues and you become a uniformed services member on active duty, your FEDVIP dental and/or vision plan enrollment terminates and your coverage stops at the end of the last pay period for which the premium payment was made from your uniformed services retirement pay. You will still be the sponsor but no longer the enrollee, and your TEI certifying family member would have to reenroll in vision and cover all TEI family members. As sponsor, you must notify your family members of changes in your eligibility and enrollment status changes. See § 894.815.

(h) If your status as a uniformed services member on active duty discontinues and you become a uniformed services retiree, the FEDVIP vision plan enrollment of your TEI family members terminates and coverage for your TEI family members will stop at the end of the pay period for which the last premium payment was made. As the sponsor who is an enrollee, you would have to enroll yourself and reenroll all TEI family members. As sponsor, you must notify your family members of changes in your eligibility and enrollment status changes. See § 894.815.

21. Revise § 894.603 to read as follows:

§ 894.603 Is there a temporary extension of coverage and conversion right when my coverage stops or when a covered family member loses eligibility?

No. There is no temporary extension of coverage, or Temporary Continuation of Coverage (TCC), or right to convert to an individual dental or vision policy when your FEDVIP coverage stops or when a family member or TEI family member loses eligibility under FEDVIP.

Subpart H—[Redesignated as Subpart I and Amended]

22. Redesignate subpart H (consisting of § 894.801) as subpart I (consisting of § 894.901) and revise newly redesignated subpart I to read as follows:

Subpart I—Benefits in Underserved Areas

§ 894.901 Will benefits be available in underserved areas?

(a) Dental and vision plans under FEDVIP will include underserved areas in their service areas and provide benefits to enrollees in underserved areas.

(b) In any area where a FEDVIP dental or vision plan does not meet OPM access standards, including underserved areas, enrollees may receive services from non-network providers.

(c) Contracts under FEDVIP shall include access standards as defined by OPM and payment levels for services to non-network providers in areas that do not meet access standards.

23. Add new subpart H to read as follows:

Subpart H—Special Provisions for TRICARE-Eligible Individuals (TEI)
Sec.
894.801 Am I eligible for FEDVIP based on my eligibility to enroll in a TRICARE dental or health plan?
894.802 Am I a TEI for a FEDVIP dental plan (TEI-D) if I am eligible to enroll or be covered under the TRICARE Retiree Dental Program?
894.803 Am I a TEI for a FEDVIP vision plan (TEI-V) based on my enrollment in a TRICARE health plan?
894.804 Am I a sponsor for a FEDVIP dental or vision plan?
894.805 I am not a TEI-D or TEI-V, but I am a sponsor. Am I eligible to cover my TEI family members?
894.806 Can a retiree or Retired Reserve member enroll and cover TEI family members in a FEDVIP dental plan?
894.807 Can an active duty member enroll or be covered under a FEDVIP vision plan?
894.808 I am a TEI family member. Can I enroll myself in FEDVIP?
894.809 Who is a TEI certifying family member, and may I be the enrollee if I accept this responsibility?
894.810 If I enroll for self plus one, may I decide which TEI family member to cover?
894.811 I am a TEI family member of a sponsor who is a retiree or Retired Reserve member who is not on active duty. My sponsor is a TEI-D but is not enrolled in a FEDVIP dental plan. Can I enroll in a FEDVIP dental plan even though my sponsor is eligible to enroll but is not enrolled?
894.812 I am a widow or widower TEI family member. Can I enroll my TEI child who is a TEI family member without enrolling myself in FEDVIP?
894.813 I am a TEI former spouse. Am I eligible to enroll in a FEDVIP vision plan?
894.814 Is a foster child included in the definition of TEI family member?
894.815 I am a sponsor. Am I responsible to notify the Administrator and my TEI family members when my FEDVIP dental or vision eligibility and/or enrollment status changes?
894.816 If I return from active duty and retire, what happens to my TEI family members' enrollment in their FEDVIP vision plan?
894.817 If I am a retiree who is a TEI-V and I return to active duty, what happens to my TEI family members' enrollment in their FEDVIP vision plan?

Subpart H—Special Provisions for TRICARE-Eligible Individuals (TEI)

§ 894.801 Am I eligible for FEDVIP based on my eligibility to enroll in a TRICARE dental or health plan?

(a) The U.S. Department of Defense (DOD) is responsible for regulating eligibility for obtaining medical and dental care under the TRICARE Program, pursuant to 10 U.S.C. chapter 55. The FEDVIP laws at 5 U.S.C. chapter 89A was amended by the National Defense Authorization Act for Fiscal Year 2017, Public Law 114-328, to allow individuals who were eligible for coverage under the TRICARE Retiree Dental Program (TRDP) in accordance with DOD rules to obtain dental coverage in a FEDVIP dental plan. Public Law 114-328 also added a provision allowing certain individuals who are concurrently enrolled for medical care in specified TRICARE health plans to obtain FEDVIP vision coverage.

(b) Categories of individuals who were eligible for TRDP and who are eligible to be covered under a FEDVIP dental plan are set forth in § 894.802. Categories of individuals who may be covered under specified TRICARE health plans and, if so covered, are eligible to be covered under a FEDVIP vision plan, are set forth in § 894.803. Individuals eligible for FEDVIP coverage are referred to as TRICARE eligible individuals (TEI).

(c)(1) FEDVIP rules provide an enrollee with the right to select:

(i) A dental and/or a vision plan; and

(ii) Type of enrollment that may cover the eligible individual in a self only enrollment or the eligible individual with one or more family members in a self plus one or self and family enrollment.

(2) For TRICARE eligible individuals (TEI), this means that:

(i) If the sponsor is both a TEI and enrolled, the sponsor may be an enrollee and may cover the sponsor and TEI family members under the plan.

(ii) If a sponsor is not eligible to enroll (or pursuant to § 894.309(a)(3)(iii) is not enrolled), a TEI who is a TEI family member may self-certify to serve as enrollee instead, and may cover other TEI family members.

(d) If a FEDVIP dental or vision plan has a specific geographic enrollment area, TEI family members must live or work in that area in order to be enrolled for coverage. An enrollee whose TEI family members are located in different geographic locations may select a plan that is nationwide/international in scope in order to obtain accessible coverage.

§ 894.802 Am I a TEI for a FEDVIP dental plan (TEI-D) if I am eligible to enroll or be covered under the TRICARE Retiree Dental Program?

A TRICARE-eligible individual for FEDVIP dental benefits (TEI-D) means an individual who is eligible to be enrolled and/or who may be covered under the TRICARE Retiree Dental Program (TRDP) pursuant to 10 U.S.C. 1076c(b) as set forth in 32 CFR 199.3 and 199.22. Individuals covered under any of the following programs are excluded and are not TEI-D: TRICARE Young Adult provisions of 10 U.S.C. 1110b; Transitional Assistance Management Program (TAMP), 10 U.S.C. 1145(a)); Continued Health Care Benefit Program (CHCBP); 10 U.S.C. 1078a; or Foreign Military (including NATO) sponsor/family coverage.

§ 894.803 Am I a TEI for a FEDVIP vision plan (TEI-V) based on my concurrent enrollment in a TRICARE health plan?

(a) Except as provided in paragraphs (b) and (c) of this section, a TEI-V is an individual who is concurrently enrolled in and/or covered pursuant to:

(1) 10 U.S.C. 1076d (TRICARE Reserve Select (TRS));

(2) 10 U.S.C. 1076e (TRICARE Retired Reserve (TRR));

(3) 10 U.S.C. 1079(a) (uniformed services active duty family members concurrently enrolled in TRICARE Select or TRICARE Prime);

(4) 10 U.S.C. 1086(c) (uniformed services retirees and retiree family members or former spouses concurrently enrolled in TRICARE Select or TRICARE Prime); or

(5) 10 U.S.C. 1086(d) (TRICARE for Life (TFL)), as set forth in 32 CFR 199.3. The provisions of TFL require Medicare eligible retirees and individual Medicare eligible retiree family members or former spouses to enroll in Medicare Part B (requires payment of applicable premiums), otherwise they are not a TEI-V.

(b) An individual covered under any of the following programs is not aTEI-V:

(1) TRICARE Young Adult provisions of 10 U.S.C. 1110b;

(2) Transitional Assistance Management Program (TAMP), 10 U.S.C. 1145(a);

(3) Continued Health Care Benefit Program (CHCBP), 10 U.S.C. 1078a; or

(4) Foreign Military (including NATO) sponsor/family coverage.

(c) An active duty member of the uniformed services under 10 U.S.C. 1074(a) is not a TEI-V.

§ 894.804 Am I a sponsor for a FEDVIP dental or vision plan?

(a) Generally, the sponsor is the individual who is eligible for medical or dental benefits under 10 U.S.C. chapter 55 based on his or her direct affiliation with the uniformed services, including military members of the National Guard and Reserves. Relationship to a sponsor conveys TEI status to a TEI family member. If two parents of a TEI child are entitled to be a sponsor, see restriction on dual enrollment at § 894.203.

(b) Sponsor for a FEDVIP dental plan means:

(1) Retiree. A member or former member of a uniformed service who is entitled to uniformed services retirement pay. To determine a sponsor's enrollee status for a FEDVIP dental plan, see § 894.309 and the definition of TEI-D;

(2) Retired Reserve member under the age of 60 (“Gray Area Retiree”). To determine sponsor's enrollee status for a FEDVIP dental plan, see § 894.309 and the definition of TEI-D;

(3) Medal of Honor recipient who is not otherwise entitled to dental benefits; or

(4) Deceased Member described in paragraph (b)(1) or (2) of this section who died after retiring from active duty and a deceased member who was a Medal of Honor recipient described in paragraph (b)(3) of this section.

(c) Sponsor for a FEDVIP vision plan includes:

(1) Retiree. A member or former member of a uniformed service who is entitled to uniformed services retirement pay.

(2) Retired Reserve member under the age of 60 (“Gray Area Retiree”);

(3) Medal of Honor recipient who is enrolled in TRICARE Select or TRICARE

Prime and who is not on active duty;

(4) Member of the uniformed services (active or Reserve Component) on active duty for more than 30 days. An active duty member of the uniformed services under 10 U.S.C. 1074(a) is not a TEI-V and is not an enrollee for a FEDVIP vision plan, see § 894.309 and definition of TEI-V;

(5) Ready Reserve member;

(6) Deceased member described at paragraphs (c)(1) through (5) of this section; or

(7) Deceased Reserve Component member (deceased in the line of duty).

§ 894.805 I am not a TEI-D or TEI-V, but I am a sponsor. Am I eligible to cover my TEI family members?

(a) FEDVIP dental plan. (1) No, a sponsor must be both a TEI-D and an enrollee, in order to cover TEI family members in a FEDVIP dental plan.

(2) However, a TEI certifying family member may enroll and cover TEI family members in a FEDVIP dental plan if the sponsor described at § 894.804 is a retiree or Retired Reserve Member who is a TEI-D, but who is not enrolled and the retiree or Retired Reserve Member:

(i) Receives VA dental services;

(ii) Has employer-sponsored dental coverage without a family coverage option; or

(iii) Has a medical or dental condition that prevents him or her from obtaining dental benefits. See § 894.309.

(b) FEDVIP vision plan. (1) No, a sponsor must be both a TEI-V and an enrollee in order to enroll and cover TEI family members in his or her FEDVIP vision plan.

(2) However, a TEI certifying family member may enroll TEI family members. A uniformed services member (active or Reserve Component) on active duty for more than 30 days described in § 894.804(c)(4) is not a TEI-V and is not eligible to enroll and cover TEI family members. See § 894.309.

§ 894.806 Can a retiree or Retired Reserve member enroll and cover TEI family members in a FEDVIP dental plan?

Generally, yes, since a retiree or Retired Reserve member who is a sponsor is also a TEI-D. However, if a retiree or Retired Reserve member who is eligible to enroll does not in fact enroll, then the member is not an enrollee and cannot cover TEI family members. A TEI certifying family member may serve as enrollee only if the member does not enroll and meets at least one of the following conditions:

(a) Receives VA dental services;

(b) Has employer-sponsored dental coverage without a family coverage option; or

(c) Has a medical or dental condition that prevents him or her from obtaining dental benefits. See description of eligibility in § 894.309(a)(3)(iii).

§ 894.807 Can an active duty member enroll or be covered under a FEDVIP vision plan?

No, a uniformed services member on active duty is not a TEI-V and may not enroll or be covered under a FEDVIP vision plan. However, an active duty member is a sponsor, therefore their TEI family members may be eligible to enroll in a vision plan. See definition of TEI for FEDVIP vision benefits (TEI-V) in § 894.101.

§ 894.808 I am a TEI family member. Can I enroll myself in FEDVIP?

Generally, you are not eligible to enroll yourself as a TEI family member. Only an enrollee designated at subpart C of this part may enroll in FEDVIP and select a plan, option, and type of enrollment (self only, self plus one, or self and family) that may cover TEI family members. There is only one FEDVIP dental enrollment and one FEDVIP vision enrollment associated with a sponsor and either the sponsor or a TEI certifying family member may be the enrollee, who may enroll, and cover TEI family members under the enrollment, in accordance with § 894.309.

§ 894.809 Who is a TEI certifying family member, and may I be the enrollee if I accept this responsibility?

(a) TEI certifying family member means, where the sponsor is not an enrollee under § 894.309, the TEI family member in order of precedence, as set forth in paragraph (b) of this section, who may accept responsibility to self-certify as the enrollee by enrolling and, if appropriate, covering the sponsor's TEI family members by electing a self plus one or self and family type of enrollment. Accepting responsibility to self-certify as the enrollee includes consulting all TEI family members regarding their preference for coverage under the enrollment, electing an appropriate plan, option, and type of enrollment.

(b) The following order of precedence governs which TEI family member may self-certify as the enrollee:

(1) An unremarried surviving spouse of a retiree or Medal of Honor recipient, if any, is the TEI certifying family member who may enroll and cover surviving TEI child(ren) of the retiree.

(2) If there is no unremarried surviving spouse of a retiree or Medal of Honor recipient, the surviving TEI child of a retiree who accepts responsibility to self-certify as the enrollee is the TEI certifying family member who may enroll and cover other surviving child(ren) who are TEI family member(s) of the deceased retiree.

(3) The TEI family member who is a spouse is the TEI certifying family member who may enroll and cover other TEI family member(s).

(4) If there is no spouse, the TEI family member who accepts responsibility to self-certify as the enrollee is the TEI certifying family member who may enroll and cover other TEI family member(s).

(c) In the event that the TEI family member or TEI certifying family member is a minor child or a disabled adult dependent, a legal guardian may exercise the TEI's rights on his or her behalf.

(d) Accepting responsibility to self-certify as the enrollee means that you accept the Administrator's authority to make reconsideration decisions under § 894.104 and OPM's authority to correct enrollments under § 894.105.

§ 894.810 If I enroll for self plus one, may I decide which TEI family member to cover?

Generally, yes, as specified in § 894.202. However, if you are an enrollee and you do not elect a type of enrollment that covers a TEI family member, that TEI family member will not have FEDVIP coverage or benefits. A TEI family member who is not a TEI certifying family member may not self-certify and enroll himself or herself as a TEI family member in a FEDVIP plan. Note however, that a TEI family member may seek reconsideration of an erroneous enrollment under § 894.104, and the Administrator and OPM retain authority to correct enrollments under § 894.105.

§ 894.811 I am a TEI family member of a sponsor who is a retiree or Retired Reserve member who is not on active duty. My sponsor is a TEI-D but is not enrolled in a FEDVIP dental plan. Can I enroll in a FEDVIP dental plan even though my sponsor is eligible to enroll but is not enrolled?

Generally, if your sponsor is a TEI-D, he or she must enroll in a FEDVIP dental plan in order to cover TEI family members. As an exception, however, a TEI family member can accept the responsibility to self-certify and enroll in a FEDVIP dental plan as a TEI certifying family member, and cover other TEI family members, if the sponsor who is a TEI-D (eligible for FEDVIP dental benefits) is not enrolled and the sponsor meets at least one of the following conditions identified in § 894.309(a)(3)(iii):

(a) The retiree sponsor receives VA dental services;

(b) The retiree sponsor has employer-sponsored dental coverage without a family coverage option; or

(c) The retiree sponsor has a medical or dental condition that prevents him or her from obtaining dental benefits.

§ 894.812 I am a widow or widower TEI family member. Can I enroll my TEI child who is a TEI family member without enrolling myself in FEDVIP?

No. A widow or widower who is a TEI family member is the TEI certifying family member. Because there is no available sponsor, you are the enrollee, and must either:

(a) Enroll yourself and the TEI child in a self plus one enrollment; or

(b) Enroll all TEI family members in a self and family enrollment, in order for the TEI child to receive FEDVIP coverage.

§ 894.813 I am a TEI former spouse. Am I eligible to enroll in a FEDVIP vision plan?

Yes, you are eligible to enroll in a FEDVIP vision plan only. A TEI former spouse is not eligible to enroll in a FEDVIP dental plan. You are a TEI-V, and you are an enrollee, however your type of enrollment is limited to self only. You may not enroll a child, even if the child is a TEI child. The TEI child will have his or her opportunity for FEDVIP dental and/or vision coverage through your ex-spouse sponsor, or TEI certifying family member as the case may be. It is possible for a minor TEI child to be the TEI certifying family member eligible to enroll as an enrollee. If this is the case, you (or the TEI child's legal guardian if not you) may effectuate that enrollment by accepting responsibility on behalf of the TEI child to self-certify as enrollee by enrolling and, if appropriate, covering other TEI family members of the sponsor. Accepting responsibility to self-certify as enrollee on behalf of the TEI child includes consulting all of the TEI family members of the TEI certifying family member regarding their preference for coverage under the enrollment, electing an appropriate plan, option and type of enrollment, and paying the premium on behalf of the TEI child and other TEI family members for the enrollment.

§ 894.814 Is a foster child included in the definition of TEI family member?

A foster child is excluded from coverage as they are not defined to be a TEI family member. However, a pre-adoptive child, adopted child, and an eligible ward of the state are considered TEI family members.

§ 894.815 I am a sponsor. Am I responsible to notify the Administrator and my TEI family members when my FEDVIP dental or vision eligibility and/or enrollment status changes?

Yes, as sponsor, you must notify the Administrator and your TEI family members of changes in your eligibility and enrollment status. Status as an enrollee, with a right to the enrollment, depends upon your sponsor status and eligibility as a TEI, and the enrollment action you have taken. Failure to notify the Administrator and your TEI family members of a change in status within the uniformed services that affects your eligibility to enroll may result in invalid continued enrollment, or an unexpected termination of enrollment, for your TEI family members, for which you will be responsible.

(a) Example 1. (1) Status change from non-enrollee to enrollee.

(2) You are on active duty (not TEI and not an enrollee in a dental or vision plan). Your TEI certifying family member may enroll and cover TEI family members in a FEDVIP plan. Upon a change in your status to a retiree or Retired Reserve member (who is not on active duty), you become a TEI and may enroll yourself and TEI family members in a FEDVIP plan. Your TEI certifying family member is no longer the enrollee, and you must notify the Administrator of your change in status. The Administrator will send the TEI certifying family member notice that his or her enrollment is terminated, and notify them that their sponsor (i.e. you), may enroll, and may cover TEI family members on the new enrollment.

(b) Example 2. (1) Status change from non-enrollee to enrollee.

(2) You are a retiree or a retired Reserve member and as a TEI-D you are eligible for, but not enrolled in, a FEDVIP dental plan and you satisfy at least one of the conditions at § 894.309(a)(3)(iii). You are not an enrollee because you are not enrolled, and therefore cannot cover TEI family members. Your TEI certifying family member may enroll and cover TEI family members in a FEDVIP dental plan. Upon a change in your status causing you to no longer satisfy one of the conditions, your TEI certifying family member is no longer the enrollee, and you must notify the Administrator. The Administrator will send your TEI certifying family member notice that their enrollment is terminated, and notify them that their sponsor (i.e. you), may enroll, and may cover TEI family members on the new enrollment.

(c) Example 3. (1) Status change from enrollee to non-enrollee.

(2) You are a retiree or Retired Reserve member (who is not on active duty), and you go on active duty. You lose TEI status and you are no longer eligible to be an enrollee. You must notify the Administrator of your change in status. The Administrator will terminate your enrollment and notify you that a TEI certifying family member may accept responsibility to self-certify as enrollee by enrolling and, if appropriate, covering other TEI family members by electing self plus one or self and family type of enrollment for only a FEDVIP vision plan. You are responsible to notify your covered TEI family members that your enrollment will terminate, and of their opportunity to accept responsibility to self-certify as enrollee.

§ 894.816 If I return from active duty and retire, what happens to my TEI family members' enrollment in their FEDVIP vision plan?

As a uniformed services member on active duty, you are the sponsor but you are not eligible to enroll in a FEDVIP vision plan and you cannot be the enrollee. A TEI certifying family member may be the enrollee while you are on active duty. Upon your retirement, however, you become eligible to enroll as a TEI-V and TEI-D, and the current enrollee status of your TEI certifying family member ends. As sponsor, you are responsible for notifying the Administrator and your TEI family members of your change in status. The TEI family members' enrollment will be terminated and as a TEI-V and TEI-D who is both sponsor and enrollee, you may enroll yourself and cover TEI family members. See § 894.601.

§ 894.817 If I am a retiree who is a TEI-V and I return to active duty, what happens to my TEI family members' enrollment in their FEDVIP vision plan?

If you and your TEI family members are enrolled in a FEDVIP vision plan while you are retired, and you return to active duty, you will no longer be eligible to enroll in a FEDVIP vision plan and cannot continue to be the enrollee even though you are the sponsor. The current enrollment for you and your TEI family members will terminate and your coverage stops at the end of the pay period for which the premium payment was made from your uniformed services retirement pay. A TEI certifying family member may accept responsibility to self-certify as the enrollee by enrolling and, if appropriate, covering other TEI family members. You are responsible for notifying your covered TEI family members that your enrollment will terminate and of their opportunity to accept responsibility to self-certify as the enrollee. Once the TEI certifying family member enrolls, and covers your TEI family members, they can remain enrolled in a FEDVIP vision plan for the duration of your active duty service. See § 894.601.

[FR Doc. 2018-25114 Filed 11-14-18; 4:15 pm]

BILLING CODE 6325-64-P